ENVIRONMENTAL PROTECTION AGENCY

[FRL-7375-8]

Implementation of the Small Business Liability and Brownfields Revitalization Act

AGENCY: Environmental Protection Agency.

ACTION: Notice of public meetings.

SUMMARY: The Environmental Protection Agency (EPA) is holding two public meetings to discuss EPA's draft of the fiscal year 2003 Brownfields Assessment, Cleanup, and Revolving Loan Fund Grant Application Guidelines (FY 03 Guidelines). The public meetings will be held on Thursday, September 26, 2002 in Washington, DC at the times and location specified below. EPA will make the draft Brownfields Grant guidelines available to the public on the Agency's Web site at http://www.epa.gov/brownfields on September 18, 2002. Interested stakeholders and the public are encouraged to download and review the draft guidelines prior to the public meetings.

The purpose of the public meetings is for EPA's Office of Brownfields Cleanup and Redevelopment to listen to the views of public stakeholders on the Agency's draft Brownfields Grant Guidelines. During the public meetings, EPA officials will discuss the draft Guidelines, as well as reserve a limited amount of time at the meetings to discuss other implementation issues regarding the new Brownfields Law.

DATES: The public meetings will be held on September 26, 2002 in Learning Forum Rooms A and B of the Marriott Learning Complex in the Ronald Reagan Building at 1300 Pennsylvania Avenue NW., Washington, DC 20004. The first session will be held from 10 a.m.-11:30 p.m. The second session will be held from 2 p.m.-3:30 p.m.

ADDRESSES: Both public meetings will be held in Learning Forum Rooms A and B of the Marriott Learning Complex in the Ronald Reagan Building and International Trade Center at 1300 Pennsylvania Avenue NW., Washington, DC 20004. The Marriott Learning Center Complex is on the concourse level of the Ronald Reagan Building just inside the building entrance from the Federal Triangle Metro station.

Those parties that wish to submit written comments on the draft Brownfields Grants Guidelines must submit their comments to EPA no later than September 26, 2002. To ensure that EPA has adequate time to consider any written comments, the Agency encourages parties to submit their comments to the Agency in electronic format. Electronic comments may be submitted to EPA's Office of Brownfields Cleanup and Redevelopment at BF.comments@epa.gov. Parties wishing to submit their comments via the United States Postal Service should address their comments to: Ms. Patricia Overmeyer, U.S. Environmental Protection Agency, Office of Brownfields Cleanup and Redevelopment, MC-5105T, 1200 Pennsylvania Avenue, Washington, DC 20460. Hand deliveries should be sent to Ms. Patricia Overmeyer, U.S. Environmental Protection Agency, Office of Brownfields Cleanup and Redevelopment, Room 2406, 1301 Constitution Ave. NW., Washington, DC 20460.

FOR FURTHER INFORMATION CONTACT: For additional information, contact EPA's Office of Brownfields Cleanup and Redevelopment at 202-566-2777.

SUPPLEMENTARY INFORMATION: The FY2003 Brownfields Grant Guidelines will be the first that EPA will issue under Section104(b)(5) of the Comprehensive Environmental Response, Compensation, and Liability Act (CERCLA) as amended by the recently enacted Small Business Liability Relief and Brownfields Revitalization Act, Public Law 107-118 (SBLRBRA). Guidelines for grant programs are exempt from notice and comment requirements under 5 U.S.C. 553(a)(2). However, the Agency has decided that consultation with public stakeholders prior to issuing the final version of the Brownfields Grant Guidelines is an appropriate step in effectively implementing the new Brownfields Law.

Both meetings are open to the general public. Stakeholders that have actively worked with EPA on Brownfields issues, including those representing state, tribal, and local government associations, industry trade associations, environmental interest groups, and environmental justice interest groups will be invited by EPA. The focus of the morning session will be on issues of general interest to state and local governments, environmental justice organizations, and environmental interest groups. The afternoon session generally will focus on insights that industry trade associations and commercial organizations may have on how the draft Brownfields Grant Guidelines can leverage private investment in Brownfields revitalization. Interested parties and the general public are invited to participate in either or both of the public meetings.

Parties wishing to provide their views to EPA on the draft FY 03 Guidelines, or to listen to the views of other parties, are strongly encouraged to attend the public meetings. Interested parties not able to attend one of the public meetings on September 26, 2002 may submit written comments to the Agency. All written comments must be received by the Agency no later than September 26, 2002. The Agency will carefully consider comments received during the public meetings, as well as written comments received on or before September 26, 2002, prior to issuing final Brownfields Grant Application Guidelines in October, 2002. However, due to the need to provide the final Guidelines to potential applicants promptly, EPA does not plan to respond in writing to written comments.

Dated: September 5, 2002.
Linda Garczynski,
Director, Office of Brownfields Cleanup and Remediation.

[FR Doc. 02-23264 Filed 9-11-02; 8:45 am]

BILLING CODE 6560-50-P